DEPARTMENT OF EDUCATION

Tests Determined To Be Suitable for Use in the National Reporting System for Adult Education

AGENCY: Office of Vocational and Adult Education, Department of Education.

ACTION: Notice.

SUMMARY: The Secretary annually announces tests, including test forms and delivery formats, determined to be suitable for use in the National Reporting System for Adult Education (NRS).

FOR FURTHER INFORMATION CONTACT: John LeMaster, Department of Education, 400 Maryland Avenue, SW., room 11159, Potomac Center Plaza, Washington, DC 20202-7240. Telephone: (202) 245-6218 or by e-mail: John.Lemaster@ed.gov.

If you use a telecommunications device for the deaf (TDD), call the Federal Relay Service (FRS), toll free, at 1-800-877-8339.

SUPPLEMENTARY INFORMATION: On January 14, 2008, the Secretary published in the Federal Register final regulations for 34 CFR part 462, Measuring Educational Gain in the National Reporting System for Adult Education (NRS regulations) (73 FR 2306). The NRS regulations established the process the Secretary uses to determine the suitability of tests for use in the NRS.

On April 16, 2008, the Secretary published a notice in the Federal Register providing test publishers an opportunity to submit tests for review under the NRS regulations. (73 FR 20616).

On February 2, 2010, the Secretary published a notice in the Federal Register listing the tests and test forms he determined were suitable for use in the NRS (75 FR 5303).

Tests and test forms were determined to be suitable for a period of either seven or three years. A seven-year approval requires no additional action on the part of the publisher, unless the information the publisher submitted as a basis for the Secretary's review was inaccurate or unless the test is substantially revised. A three-year approval is issued with a set of conditions that must be met by the completion of the three-year time period. If these conditions are met, the test is approved for continued use in the NRS.

The Secretary publishes here an update to the list published on February 2, 2010, that includes delivery formats. This update clarifies that some, but not all, tests using computer-adaptive or computer-based delivery formats are suitable for use in the NRS. The staffs of adult education programs are cautioned to ensure that only approved computer delivery formats are used. If a particular computer delivery format is not explicitly specified for a test in this notice, it is not approved for use in the NRS.

Tests Determined To Be Suitable for Use in the NRS for Seven Years

(a) The following test is determined to be suitable for use at all Adult Basic Education (ABE) and Adult Secondary Education (ASE) levels and at all English-as-a-Second-Language (ESL) levels of the NRS for a period of seven years from February 2, 2010 (75 FR 5303):

Comprehensive Adult Student Assessment Systems (CASAS) Reading Assessments (Life and Work, Life Skills, Reading for Citizenship, Reading for Language Arts—Secondary Level). We are clarifying that the computer-based test (CBT) is an approved delivery format in addition to forms 27, 28, 81, 82, 81X, 82X, 83, 84, 85, 86, 185, 186, 187, 188, 310, 311, 513, 514, 951, 952, 951X, and 952X.

Publisher: CASAS, 5151 Murphy Canyon Road, Suite 220, San Diego, CA 92123-4339. Telephone: (800) 255-1036. Internet: http://www.casas.org.

(b) The following tests are determined to be suitable for use at all ABE and ASE levels of the NRS for a period of seven years from February 2, 2010 (75 FR 5303):

(1) Comprehensive Adult Student Assessment Systems (CASAS) Life Skills Math Assessments—Application of Mathematics (Secondary Level). We are clarifying that the computer-based test (CBT) is an approved delivery format in addition to forms 31, 32, 33, 34, 35, 36, 37, 38, 505, and 506. Publisher: CASAS, 5151 Murphy Canyon Road, Suite 220, San Diego, CA 92123-4339. Telephone: (800) 255-1036. Internet: http://www.casas.org.

(2) Massachusetts Adult Proficiency Test (MAPT) for Math. We are clarifying that the computer-adaptive test (CAT) is an approved delivery format. Publisher: Massachusetts Department of Elementary and Secondary Education and University of Massachusetts Amherst, School of Education, 156 Hills South, University of Massachusetts, Amherst, MA 01003. Telephone: (413) 545-0564. Internet: http://www.sabes.org/assessment/mapt.htm.

(3) Massachusetts Adult Proficiency Test (MAPT) for Reading. We are clarifying that the computer-adaptive test (CAT) is an approved delivery format. Publisher: Massachusetts Department of Elementary and Secondary Education and University of Massachusetts Amherst, School of Education, 156 Hills South, University of Massachusetts, Amherst, MA 01003. Telephone: (413) 545-0564. Internet: http://www.sabes.org/assessment/mapt.htm.

(4) Tests of Adult Basic Education (TABE 9/10). We are clarifying that the computer-based test (CBT) is an approved delivery format in addition to forms 9 and 10. Publisher: CTB/McGraw Hill, 20 Ryan Ranch Road, Monterey, CA 93940. Telephone: (800) 538-9547. Internet: http://www.ctb.com.

(5) Tests of Adult Basic Education Survey (TABE Survey). We are clarifying that the computer-based test (CBT) is an approved delivery format in addition to forms 9 and 10. Publisher: CTB/McGraw Hill, 20 Ryan Ranch Road, Monterey, CA 93940. Telephone: (800) 538-9547. Internet: http://www.ctb.com.

(c) The following tests are determined to be suitable for use at all ESL levels of the NRS for a period of seven years from February 2, 2010 (75 FR 5303):

(1) BEST (Basic English Skills Test) Literacy. Forms B, C, and D. Publisher: Center for Applied Linguistics, 4646 40th Street, NW., Washington, DC 20016-1859. Telephone: (202) 362-0700. Internet: http://www.cal.org.

(2) Tests of Adult Basic Education Complete Language Assessment System—English (TABE/CLAS-E). Forms A and B. Publisher: CTB/McGraw Hill, 20 Ryan Ranch Road, Monterey, CA 93940. Telephone: (800) 538-9547. Internet: http://www.ctb.com.

Tests Determined To Be Suitable for Use in the NRS for Three Years

(a) The following tests are determined to be suitable for use at all ABE and ASE levels and at all ESL levels of the NRS for a period of three years from February 2, 2010 (75 FR 5303):

(1) Comprehensive Adult Student Assessment Systems (CASAS) Employability Competency System (ECS) Reading Assessments—Workforce Learning Systems (WLS). We are clarifying that the computer-based test (CBT) is an approved delivery format in addition to forms 11, 12, 13, 14, 15, 16, 17, 18, 114, 116, 213, 214, 215, and 216. Publisher: CASAS, 5151 Murphy Canyon Road, Suite 220, San Diego, CA 92123-4339. Telephone: (800) 255-1036. Internet: http://www.casas.org.

(2) Comprehensive Adult Student Assessment Systems (CASAS) Functional Writing Assessments. Forms 460, 461, 462, 463, 464, 465, and 466. Publisher: CASAS, 5151 Murphy Canyon Road, Suite 220, San Diego, CA 92123-4339. Telephone: (800) 255-1036. Internet: http://www.casas.org.

(b) The following tests are determined to be suitable for use at all ABE and ASE levels of the NRS for a period of three years from February 2, 2010 (75 FR 5303):

(1) Comprehensive Adult Student Assessment Systems (CASAS) Employability Competency System (ECS) Math Assessments—Workforce Learning Systems (WLS). We are clarifying that the computer-based test (CBT) is an approved delivery format in addition to forms 11, 12, 13, 14, 15, 16, 17, 18, 213, 214, 215, and 216. Publisher: CASAS, 5151 Murphy Canyon Road, Suite 220, San Diego, CA 92123-4339. Telephone: (800) 255-1036. Internet: http://www.casas.org.

(2) General Assessment of Instructional Needs (GAIN)—Test of English Skills. We are clarifying that the computer-based test (CBT) is an approved delivery format in addition to forms A and B. Publisher: Wonderlic Inc., 1795 N. Butterfield Road, Suite 200, Libertyville, IL 60048-1212. Telephone: (888) 397-8519. Internet: http://www.wonderlic.com.

(3) General Assessment of Instructional Needs (GAIN)—Test of Math Skills. We are clarifying that the computer-based test (CBT) is an approved delivery format in addition to forms A and B. Publisher: Wonderlic Inc., 1795 N. Butterfield Road, Suite 200, Libertyville, IL 60048-1212. Telephone: (888) 397-8519. Internet: http://www.wonderlic.com.

(c) The following tests are determined to be suitable for use at the High Intermediate, Low Adult Secondary, and High Adult Secondary levels of the NRS for a period of three years from February 2, 2010 (75 FR 5303):

(1) WorkKeys: Applied Mathematics. Forms 210 and 220. Publisher: ACT, 500 ACT Drive, P.O. Box 168, Iowa City, Iowa 52243-0168. Telephone: (800) 967-5539. Internet: http://www.act.org.

(2) WorkKeys: Reading for Information. Forms 110 and 120. Publisher: ACT, 500 ACT Drive, P.O. Box 168, Iowa City, Iowa 52243-0168. Telephone: (800) 967-5539. Internet: http://www.act.org.

(d) The following tests are determined to be suitable for use at all ESL levels of the NRS for a period of three years from February 2, 2010 (75 FR 5303):

(1) Basic English Skills Test (BEST) Plus. We are clarifying that the computer-adaptive test (CAT) is an approved delivery format in addition to forms A, B, and C. Publisher: Center for Applied Linguistics, 4646 40th Street, NW., Washington, DC 20016-1859. Telephone: (202) 362-0700. Internet: http://www.cal.org.

(2) Comprehensive Adult Student Assessment Systems (CASAS) Employability Competency System (ECS) Listening Assessments—Life Skills (LS). We are clarifying that the computer-based test (CBT) is an approved delivery format in addition to forms 51, 52, 53, 54, 55, 56, 63, 64, 65, and 66. Publisher: CASAS, 5151 Murphy Canyon Road, Suite 220, San Diego, CA 92123-4339. Telephone: (800) 255-1036. Internet: http://www.casas.org.

Revocation of Tests

The Secretary's determination regarding the suitability of a test may be revoked under certain circumstances (see 34 CFR 462.12(e)). If the Secretary revokes the determination regarding the suitability of a test, the Secretary publishes in the Federal Register and posts on the Internet at http://www.nrsweb.org a notice of that revocation along with the date by which States and local eligible providers must stop using the revoked test.

Accessible Format: Individuals with disabilities can obtain this document in an accessible format (e.g., braille, large print, audiotape, or compact disc) by contacting the contact person listed under FOR FURTHER INFORMATION CONTACT in this notice.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Program Authority: 20 U.S.C. 9212.

Dated: September 7, 2011.
Johan Uvin,
Deputy Assistant Secretary for Policy and Strategic Initiatives.

[FR Doc. 2011-23263 Filed 9-9-11; 8:45 am]

BILLING CODE 4000-01-P